DEPARTMENT OF THE INTERIOR

Fish and Wildlife Service

Draft Recovery Plan for Sidalcea oregana var. calva (Wenatchee Mountains Checker-mallow)

AGENCY: U.S. Fish and Wildlife Service, Interior.

ACTION: Notice of document availability for review and comment.

SUMMARY: The U.S. Fish and Wildlife Service (“we”) announces the availability of the Draft Recovery Plan for Sidalcea oregana var. calva (Wenatchee Mountains Checker-mallow) for public review. This endangered plant is found only in Chelan County, Washington. This draft recovery plan describes the status of the species, recovery objectives and criteria, and specific actions needed to reclassify Sidalcea oregana var. calva from endangered to threatened, and to ultimately delist it. We solicit review and comment from local, State, and Federal agencies, and the public on this draft recovery plan.

DATE: Comments on the draft recovery plan must be received on or before December 15, 2003, to receive our consideration.

ADDRESSES: Copies of the draft recovery plan are available for inspection, by appointment, during normal business hours at the following location: U.S. Fish and Wildlife Service, Central Washington Field Office, 215 Melody Lane, Suite 119, Wenatchee, Washington 98801 (telephone: 509-665-3508). Requests for copies of the draft recovery plan and written comments and materials regarding the plan should be addressed to the Field Supervisor at the above address. An electronic copy of this recovery plan is also available at http://endangered.fws.gov/recovery/index.html#plans.

FOR FURTHER INFORMATION CONTACT: Tim McCracken, Fish and Wildlife Biologist, at the above address.

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice, and an opportunity for public review and comment, be provided during recovery plan development. We will consider all information presented during the public comment period prior to approval of each new or revised recovery plan. Substantive technical comments may result in changes to the plan. Substantive comments regarding recovery plan implementation may not necessarily result in changes to the recovery plan, but will be forwarded to appropriate Federal or other entities so that they can take these comments into account during the course of implementing recovery actions. Individual responses to comments will not be provided.

This draft recovery plan was developed by Service biologists coordinating with botanists, plant ecologists, and planners from the Natural Heritage Program and Natural Area Program, Washington Department of Natural Resources; and the U.S. Forest Service. We also consulted with various experts from universities, agency representatives, and non-governmental organizations in the development of this plan.

Sidalcea oregana var. calva was listed as an endangered species on December 22, 1999 (64 FR 71680). This rare, attractive member of the mallow family (Malvaceae) is endemic to Chelan County, Washington, where it is found in wetlands and moist meadows of the Wenatchee Mountains. Just five populations are known, and four of these five number from only eight to a few hundred individuals. Populations occur on a mixture of private, State, and Federal lands. Critical habitat was designated for this species on September 6, 2001 (66 FR 46536).

The primary threats to Sidalcea oregana var. calva include habitat fragmentation, degradation, or loss due to conversion of native wetlands to orchards and other agricultural uses; rural residential development and associated impacts; altered hydrology; competition from native and nonnative plants; recreational impacts; woody plant encroachment; and activities associated with fire suppression. To a lesser extent the species is threatened by livestock grazing, road construction, and timber harvesting and associated impacts including changes in surface runoff. The species is highly vulnerable to extirpation from demographic factors or random, naturally occurring events due to the very small size of most of the remaining populations.

The interim objective of this draft recovery plan is to stabilize the existing populations and accomplish increases in population sizes and geographic distribution across the historical range of the species sufficient to consider downlisting of Sidalcea oregana var. calva to threatened status. The primary objective of the plan is to recover the species to the point that it can be delisted.

Actions proposed to achieve the recovery of Sidalcea oregana var. calva include maintaining the current geographical distribution of the species through effective management and coordination with private landowners and other agencies; identifying potential habitat and developing a sound protocol for reintroducing the species within its historically occupied range; conducting research and monitoring essential to the conservation of the species; collecting seed representing the genetic diversity of the species across its range and storing it in a secure facility; surveying to identify potential additional populations; and developing outreach materials to provide information about the species, its habitat, and management recommendations to local landowners.

Public Comments Solicited

We solicit written comments on the draft recovery plan described. All comments received by the date specified above will be considered in developing a final recovery plan.

Authority: The authority for this action is section 4(f) of the Endangered Species Act, 16 U.S.C. 1533(f).

Dated: August 11, 2003.
Don Weathers,
Acting Regional Director, Region 1, U.S. Fish and Wildlife Service.

[FR Doc. 03-25983 Filed 10-14-03; 8:45 am]

BILLING CODE 4310-55-P